DEPARTMENT OF TRANSPORTATION

Saint Lawrence Seaway Development Corporation

33 CFR Part 402

[Docket No. SLSDC 2005-20518]

RIN 2135-AA21

Tariff of Tolls

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges levied by the SLSMC in Canada starting in the 2005 navigation season, which are effective only in Canada. An amendment to increase the charge per pleasure craft per lock transited for full or partial transit of the Seaway will apply in the United States.

DATES: This rule is effective June 16, 2005.

FOR FURTHER INFORMATION CONTACT: Craig H. Middlebrook, Acting Chief Counsel, Saint Lawrence Seaway Development Corporation, 400 Seventh Street, SW., Washington, DC 20590, (202) 366-0091.

SUPPLEMENTARY INFORMATION: The Saint Lawrence Seaway Development Corporation (SLSDC) and the St. Lawrence Seaway Management Corporation (SLSMC) of Canada, under international agreement, jointly publish and presently administer the St. Lawrence Seaway Tariff of Tolls (Schedule of Fees and Charges in Canada) in their respective jurisdictions.

The Tariff sets forth the level of tolls assessed on all commodities and vessels transiting the facilities operated by the SLSDC and the SLSMC. The SLSDC is revising 33 CFR 402.8, “Schedule of Tolls”, to reflect the fees and charges levied by the SLSMC in Canada beginning in the 2005 navigation season. With one exception, the changes affect the tolls for commercial vessels and are applicable only in Canada. The collection of tolls by the SLSDC on commercial vessels transiting the U.S. locks is waived by law (33 U.S.C. 988a(a)).

The SLSDC is amending 33 CFR 402.8 to increase the charge per pleasure craft per U.S. lock transited from $20 to $25 U.S., or $30 Canadian. This increase is needed due to higher operating costs at the locks. The per lock charge for pleasure craft transiting the Canadian locks will remain $20 Canadian, to be collected in Canadian dollars. No comments were received regarding this amendment.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Regulatory Evaluation

This regulation involves a foreign affairs function of the United States and therefore Executive Order 12866 does not apply and evaluation under the Department of Transportation's Regulatory Policies and Procedures is not required.

Regulatory Flexibility Act Determination

I certify this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et reg.) because it is not a major federal action significantly affecting the quality of the human environment.

Federalism

The Corporation has analyzed this rule under the principles and criteria in Executive Order 13132, dated August 4, 1999, and has determined that this rule does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 402

Vessels, Waterways.

Accordingly, the Saint Lawrence Seaway Development Corporation is amending 33 CFR Part 402, Tariff of Tolls, as follows:

PART 402—TARIFF OF TOLLS

1. The authority citation for Part 402 continues to read as follows:

Authority: 33 U.S.C. 983(a), 984(a)(4) and 988, as amended; 49 CFR 1.52.

2. Section 402.8 is revised to read as follows:

§ 402.8 Schedule of tolls.

Item | Description of chargers | Rate ($) Montreal to or from Lake Ontario (5 locks) | Rate ($) Welland Canal—Lake Ontario to or from Lake Erie (8 locks)
| Column 1 | Column 2 | Column 3
1. | Subject to item 3, for complete transit of the Seaway, a composite toll, comprising:
| (1) a charge per gross registered ton of the ship, applicable whether the ship is wholly or partially laden, or is in ballast, and the gross registered tonnage being calculated according to prescribed rules for measurement in the United States or under the International Convention on Tonnage Measurement of Ships, 1969, as amended from time to time | 0.0928 | 0.1507.
| (2) a charge per metric ton of cargo as certified on the ship's manifest or other document, as follows:
| (a) bulk cargo | 0.9624 | 0.6376.
| (b) general cargo | 2.3187 | 1.0204.
| (c) steel slab | 2.0985 | 0.7305.
| (d) containerized cargo | 0.9624 | 0.6376.
| (e) government aid cargo | N/A | N/A.
| (f) grain | 0.5912 | 0.6376.
| (g) coal | 0.5681 | 0.6376.
| (3) a charge per passenger per lock | 1.3680 | 1.3680.
| (4) a charge per lock for transit of the Welland Canal in either direction by cargo ships:
| (a) loaded | N/A | 509.22.
| (b) in ballast | N/A | 376.23.
2. | Subject to item 3, for partial transit of the Seaway | 20 per cent per lock of the applicable charge under items 1(1) and (2) plus the applicable charge under items 1(3) and (4) | 13 per cent per lock of the applicable charge under items 1(1) and (2) plus the applicable charge under items 1(3) and (4).
3. | Minimum charge per ship per lock transited for full or partial transit of the Seaway | 20.00 | 20.00.
4. | A rebate applicable to the rates of item 1 to 3 | N/A | N/A.
5. | A charge per pleasure craft per lock transited for full or partial transit of the Seaway, including applicable federal taxes ¹ | 20.00 | 20.00.
6. | In lieu of item 1(4), for vessel carrying new cargo or returning ballast after carrying new cargo, a charge per gross registered ton of the ship, the gross registered tonnage being calculated according to item 1 ¹:
| (a) loaded | N/A | 0.1500.
| (b) in ballast | N/A | 0.1100.
¹ The applicable charge at the Saint Lawrence Seaway Development Corporation's locks (Eisenhower, Snell) for pleasure craft is $25 U.S., or $30 Canadian per lock. The applicable charge under item 3 at the Saint Lawrence Seaway Development Corporation's locks (Eisenhower, Snell) will be collected in U.S. dollars. The other amounts are in Canadian dollars and are for the Canadian Share of tolls. The collection of the U.S. portion of tolls for commercial vessels is waived by law (33 U.S.C. 988a(a)).

Issued at Washington, DC on May 11, 2005.
Saint Lawrence Seaway Development Corporation.
Albert S. Jacquez,
Administrator.

[FR Doc. 05-9799 Filed 5-16-05; 8:45 am]

BILLING CODE 4910-61-P